DEPARTMENT OF JUSTICE

Antitrust Division

Pursuant to the National Cooperative Research and Production Act of 1993—Petroleum Environmental Research Forum (“PERF”) Project No. 2000-03

Notice is hereby given that, on June 18, 2001, pursuant to Section 6(a) of the National Cooperative Research and Production Act of 1993, 15 U.S.C. 4301 et seq. (“the Act”), Petroleum Environmental Research Forum (“PERF”) Project No. 2000-3 has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Amoco Oil Company, Naperville, IL; Equilon Enterprises LLC, Houston, TX; and Phillips Petroleum Company, Sweeny, TX. The nature and objectives of the venture are to establish a joint effort to test next-generation process heater burners with NOX emissions in the 5-10 ppm range in a refinery process heater and to assist in the acceleration of burner vendors' commercial development of these burners by observing flame interaction, heat flux, tramp air, and other effects on NOX emissions. The activities to be carried out include the collection, exchange, and analysis of commercial unit data, and development of correlations or other predictive methods based on available or readily measurable variables.

Participation in this project will remain open until the termination of the Agreement for PERF Project No. 2000-03, and the participants intend to file additional written notification disclosing all changes in membership of the project. Information regarding participation in this project may be obtained by contacting Dr. Colin G. Grieves, Manager, Environmental Management, BP Amoco Naperville Complex, 150 W. Warrenville Road, Mail Code H-7, Naperville, IL 60563-8469.

Constance K. Robinson,
Director of Operations, Antitrust Division.

[FR Doc. 01-17477 Filed 7-11-01; 8:45 am]

BILLING CODE 4410-15-M